RAILROAD RETIREMENT BOARD

Agency Forms Submitted for OMB Review

Correction

In notice document 01-29055 appearing on page 58532 in the issue of Wednesday, November 21, 2001, make the following corrections:

On page 58532, in the second column, under the Summary of Proposal(s) heading:

a. “(8)” should read “(9)”; and

b. Insert between “(7)” and “(9)”, “(8) Total annual responses: 239.”

[FR Doc. C1-29055 Filed 12-20-01; 8:45 am]

BILLING CODE 1505-01-D

RAILROAD RETIREMENT BOARD

Agency Forms Submitted for OMB Review

Correction

In notice document 01-29056 beginning on page 58532 in the issue of Wednesday, November 21, 2001, make the following correction:

On page 58533, in the first column, under the Summary of Proposal(s) heading, in “(2)”, “BAZ-4” should read, “BA-4.”.

[FR Doc. C1-29056 Filed 12-20-01; 8:45 am]

BILLING CODE 1505-01-D